DEPARTMENT OF ENERGY

Office of Civilian Radioactive Waste Management

Site Recommendation Consideration Process—Further Extension of Public Comment Period

AGENCY: Office of Civilian Radioactive Waste Management, Department of Energy.

ACTION: Notice of extension of public comment period.

SUMMARY: The Department of Energy (the Department) announces further extension of the public comment period to October 19, 2001 on the possible recommendation of the Yucca Mountain Site in Nevada for development as a spent nuclear fuel and high-level radioactive waste geologic repository.

DATES: The comment period is extended to October 19, 2001.

ADDRESSES: Written comments should be addressed to Carol Hanlon, U.S. Department of Energy, Yucca Mountain Site Characterization Office (M/S #205), P.O. Box 30307, North Las Vegas, Nevada, 89036-0307.

FOR FURTHER INFORMATION CONTACT: U.S. Department of Energy, Office of Civilian Radioactive Waste Management, Yucca Mountain Site Characterization Office, (M/S #025), P.O. Box 30307, North Las Vegas, Nevada 89036-0307, 1-800-967-3477.

SUPPLEMENTARY INFORMATION: In the August 21, 2001, Federal Register Notice (66 FR 43850-43851), the Department announced the scheduling of public hearings in Las Vegas, Nevada, on September 5, 2001, in Amargosa Valley, Nevada on September 12, 2001, and in Pahrump, Nevada on September 13, 2001. The Department decided to postpone the latter two hearings in light of the recent terrorist attacks on the United States. In a notice published on September 27, 2001 (66 FR 49372-49373), the latter two hearings were rescheduled to October 10 and October 12, 2001, in Amargosa Valley, Nevada and Pahrump, Nevada, respectively. The comment period is now extended through October 19, 2001. The Secretary has also indicated that there will be a later public involvement opportunity closer to the decision time on the recommendation, the scope of which will be focused exclusively on issues that could not have been raised in the current comment period. Any comments on issues that can be raised before October 19 must be filed within the current comment period to ensure their consideration.

Additional information on the Civilian Radioactive Waste Management program may be obtained at the Yucca Mountain web site at www.ymp.gov or by calling 1-800-967-3477.

Issued in Washington, DC on September 26, 2001.
Lake H. Barrett,
Acting Director.

[FR Doc. 01-24914 Filed 10-4-01; 8:45 am]

BILLING CODE 6450-01-P